DEPARTMENT OF THE INTERIOR

Bureau of Land Management

[BLM_AZ_FRN_MO#4500176195; AZA-38291, AZAZ105848086]

Notice of Public Meeting for U.S. Forest Service Hassayampa River Withdrawal Application

AGENCY: Bureau of Land Management, Interior.

ACTION: Notice of public meeting.

SUMMARY: In accordance with the Federal Land Policy and Management Act of 1976, the U.S Department of the Interior, Bureau of Land Management (BLM), Hassayampa Field Office, Arizona, will hold a public meeting for the U.S. Forest Service's (FS) withdrawal application for 3,739 acres of National Forest System (NFS) lands within the Prescott National Forest. The FS's request is for withdrawal of these lands from location and entry under the U.S. mining laws, and from leasing under the mineral and geothermal leasing laws, for a 20-year term, subject to valid existing rights. The purpose of the requested withdrawal is to protect the Hassayampa River riparian corridor, located in Yavapai County, Arizona, from potential adverse impacts from mining and mineral or geothermal development activities.

DATES: The BLM will hold one public meeting on February 28, 2024. The meeting will begin at 6 p.m. Mountain Time (MT) and adjourn at approximately 7 p.m. MT.

ADDRESSES: The meeting will be held at the Prescott Public Library, 215 East Goodwin Street, Prescott, AZ 86303.

FOR FURTHER INFORMATION CONTACT: Michael Ouellett, Realty Specialist, BLM Arizona State Office, telephone (602) 417-9561, or email mouellett@blm.gov. Individuals in the United States who are deaf, deafblind, hard of hearing, or have a speech disability may dial 711 (TTY, TDD, or TeleBraille) to access telecommunications relay services. Individuals outside the United States should use the relay services offered within their country to make international calls to the point-of-contact in the United States.

Individuals who need special assistance, such as sign language interpretation or other reasonable accommodations, should contact Michael Ouellett at least two weeks before the start of the meeting.

SUPPLEMENTARY INFORMATION: The FS's request is for a new withdrawal encompassing 1,677.25 acres of NFS lands previously withdrawn by Public Land Order No. 7414 (expired October 11, 2019), and an additional 2,061.75 acres of riparian corridor that the FS has identified as needing protection. A description of these lands was published in the Federal Register (88 FR 37088) on June 6, 2023, which is available at: https://www.federalregister.gov/d/2023-11998.

The meeting is open to the public, and a public comment period will be held. Depending on the number of persons wishing to comment and the time available, time allotted for individual oral comments may be limited. Use of the Prescott Public Library meeting rooms or other facilities by any person, candidate, group, or organization does not constitute or imply the endorsement, recommendation, or favoring of the City of Prescott, or any of its officials, employees, or contractors acting on its behalf.

Written comments may be submitted at the meeting. Before including your address, phone number, email address, or other personal identifying information in your comment, you should be aware that your entire comment—including your personal identifying information—may be made publicly available at any time. While you can ask us in your comment to withhold your personal identifying information from public review, we cannot guarantee that we will be able to do so.

Authority: 43 CFR 2310.3-1(c)(1).

Irina A Ford,
Field Manager, BLM Arizona Hassayampa Field Office.

[FR Doc. 2024-01157 Filed 1-22-24; 8:45 am]

BILLING CODE 3411-15-P>